NATIONAL SCIENCE FOUNDATION

National Science Board; Sunshine Act Meetings; Notice

The National Science Board's ad hoc Task Force on NEON Performance and Plans, pursuant to NSF regulations (45 CFR part 614), the National Science Foundation Act, as amended (42 U.S.C. 1862n-5), and the Government in the Sunshine Act (5 U.S.C. 552b), hereby gives notice in regard to the scheduling of a meeting for the transaction of National Science Board business, as follows:

DATE AND TIME: Wednesday, February 17, 2016 from 8:30 p.m.-9:30 p.m. EST.

SUBJECT MATTER: Task Force Chair's opening remarks; approval of minutes of the closed January 28, 2016 meeting; Task Force Chair's update; and Discussion.

STATUS: Closed.

This meeting will be held by teleconference originating at the National Science Board Office, National Science Foundation, 4201 Wilson Blvd., Arlington, VA 22230.

Please refer to the National Science Board Web site (www.nsf.gov/nsb) for information or schedule updates, or contact: Elise Lipkowitz (elipcowi@nsf.gov), National Science Foundation, 4201 Wilson Blvd., Arlington, VA 22230.

Ann Bushmiller,
NSB Senior Legal Counsel.

[FR Doc. 2016-03425 Filed 2-16-16; 11:15 am]

BILLING CODE 7555-01-P